COMMITTEE FOR PURCHASE FROM PEOPLE WHO ARE BLIND OR SEVERELY DISABLED

Procurement List; Additions

AGENCY: Committee for Purchase From People Who Are Blind or Severely Disabled.

ACTION: Additions to procurement list.

SUMMARY: This action adds to the Procurement List products and services to be furnished by nonprofit agencies employing persons who are blind or have other severe disabilities.

EFFECTIVE DATE: The effective date for addition of the service CD-Rom Replication, Government Printing Office, Program 5455-S, Chicago, Illinois will be March 1, 2004. The addition for all other products and services in this notice will be effective September 14, 2003.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: On February 7, May 2, June 6, and June 13, 2003, the Committee for Purchase From People Who Are Blind or Severely Disabled published notice (68 FR 6403, 23441, 33908, and 35380) of proposed additions to the Procurement List. After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

(End of Certification)

Accordingly, the following products and services are added to the Procurement List:

Products

Product/NSN: Candle

3″ x 3″ Pillar, Gardenia/M.R. 481.

3″ x 3″ Pillar, Vanilla/M.R. 480.

6″ x 3″ Pillar, Gardenia/M.R. 483.

6″ x 3″ Pillar, Vanilla/M.R. 482.

Jar, Lavender/M.R. 485.

Jar, Vanilla/M.R. 484.

NPA: South Texas Lighthouse for the Blind, Corpus Christi, Texas.

Contract Activity: Defense Commissary Agency (DeCA), Ft. Lee, Virginia.

Product/NSN: Pen, Gel Ink, Aristocrat.

7520-00-NIB-1461

7520-00-NIB-1481

NPA: Industries of the Blind, Inc., Greensboro, North Carolina.

Contract Activity: Office Supplies & Paper Products Acquisition Center, New York, New York.

Product/NSN: Pen, Gel, Executive.

7520-00-NIB-1491

NPA: West Texas Lighthouse for the Blind, San Angelo, Texas.

Contract Activity: Office Supplies & Paper Products Acquisition Center, New York, New York.

Services

Service Type/Location: CD-ROM Replication, Government Printing Office, Program 5455-S, Chicago, Illinois.

NPA: Assoc for the Blind & Visually Impaired & Goodwill Industries of Greater Rochester, Rochester, New York.

Contract Activity: Government Printing Office, Chicago, Illinois.

Service Type/Location: Custodial Services. Army Corps of Engineers, Jadwin Building, Galveston, Texas.

NPA: Training, Rehabilitation, & Development Institute, Inc., San Antonio, Texas.

Contract Activity: U.S. Army Corps of Engineers, Galveston, Texas.

Service Type/Location: Food Service, U.S. Property and Fiscal Officer, Wisconsin Military Academy, Fort McCoy, Wisconsin.

NPA: Challenge Unlimited, Inc., Alton, Illinois.

Contract Activity: U.S. Property and Fiscal Officer for Wisconsin, Camp Douglas, Wisconsin.

Service Type/Location: Janitorial/Custodial, The Dalles Dam, The Dalles, Oregon.

NPA: Hood River Sheltered Workshop, Hood River, Oregon.

Contract Activity: Army Corps of Engineers, Portland, Oregon.

This action does not affect current contracts awarded prior to the effective date of this addition or options that may be exercised under those contracts.

Sheryl D. Kennerly,
Director, Information Management.

[FR Doc. 03-20881 Filed 8-14-03; 8:45 am]

BILLING CODE 6353-01-P